DEPARTMENT OF HEALTH AND HUMAN SERVICES

National Institutes of Health

Submission for OMB Review; 30-Day Comment Request; Multidisciplinary Treatment Planning (MTP) Within the National Cancer Institute (NCI) Community Cancer Centers Program

SUMMARY: Under the provisions of Section 3507(a)(1)(D) of the Paperwork Reduction Act of 1995, the National Institutes of Health (NIH), has submitted to the Office of Management and Budget (OMB) a request for review and approval of the information collection listed below. This proposed information collection was previously published in the Federal Register on November 1, 2013, Vol. 78, P. 65675 and allowed 60-days for public comment. No public comments were received. The purpose of this notice is to allow an additional 30 days for public comment. The National Cancer Institute (NCI), National Institutes of Health, may not conduct or sponsor, and the respondent is not required to respond to, an information collection that has been extended, revised, or implemented on or after October 1, 1995, unless it displays a currently valid OMB control number.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

Comment Due Date: Comments regarding this information collection are best assured of having their full effect if received within 30-days of the date of this publication.

FOR FURTHER INFORMATION CONTACT: To obtain a copy of the data collection plans and instruments or request more information on the proposed project contact: Irene Prabhu Das, Division of Cancer Control & Population Sciences, National Cancer Institute, 9609 Medical Center Drive, Room 3E-518, Bethesda, MD 20892-0704 or call non-toll-free number 240-276-6799 or Email your request, including your address to: prabhudasi@mail.nih.gov. Formal requests for additional plans and instruments must be requested in writing.

Proposed Collection: Multidisciplinary Treatment Planning (MTP) within the NCI Community Cancer Centers Program (NCI), 0925-NEW, National Cancer Institute (NCI), National Institutes of Health (NIH).

Need and Use of Information Collection: The aim of this data collection is to characterize how NCI Community Cancer Centers Program (NCCCP) hospitals define, structure, and implement multidisciplinary treatment planning (MTP), which initiates a coordinated approach to multidisciplinary care. The web-based, organizational survey will gather data on sites' definitions and terms for multidisciplinary treatment planning, composition of provider teams, meeting process, and patient involvement in the process. Information collected from NCCCP hospitals will add to the knowledge being generated and provide the foundation for research on multidisciplinary care in cancer. A total of 21 hospitals participating in the NCCCP through June 2014 will be requested to complete the survey.

OMB approval is requested for 1 year. There are no costs to respondents other than their time. The total estimated annualized burden hours are 22.

Estimated Annualized Burden-Hours
Form name | Types of respondents | Number of respondents | Number of responses per respondent | Average burden per response (in hours) | Total annual burden hours
Survey | Private Sector: Not for Profit NCI Community Cancer Center Program Hospitals | 21 | 1 | 1 | 21
Telephone Reminder |  | 21 | 1 | 2/60 | 1

Dated: January 21, 2014.
Vivian Horovitch-Kelley,
NCI Project Clearance Liaison, National Institutes of Health.

[FR Doc. 2014-01563 Filed 1-27-14; 8:45 am]

BILLING CODE 4140-01-P